DEPARTMENT OF DEFENSE

Department of the Navy

Notice of Intent To Grant Exclusive Patent License; Vivinostics LLC

AGENCY: Department of the Navy, DOD.

ACTION: Special notice.

SUMMARY: The Department of the Navy hereby gives notice of its intent to grant an exclusive license to Vivinostics LLC of Gainesville, FL. The proposed license is a revocable, nonassignable, exclusive license to practice the inventions embodied in U.S. Pat. No. 7,128,714: NON-CONTACT WAVEFORM MONITOR; U.S. Pat. No. 8,177,721: REMOTE BLOOD PRESSURE WAVEFORM SENSING METHOD; and, U.S. Pat. No. 8,444,568 REMOTE BLOOD PRESSURE WAVEFORM SENSING METHOD throughout the United States, the District of Columbia, the Commonwealth of Puerto Rico, and all other United States territories and possessions. The Secretary of the Navy has an ownership interest in these inventions.

DATES: Anyone wishing to object to the grant of this license must file written objections along with supporting evidence, if any, not later than April 1, 2015.

ADDRESSES: Written objections are to be filed with the Naval Undersea Warfare Center Division, Newport, 1176 Howell St., Bldg 102T, Code 00T2, Newport, RI 02841.

FOR FURTHER INFORMATION CONTACT: Dr. Theresa A. Baus, Head, Technology Partnerships Office, Naval Undersea Warfare Center Division, Newport, 1176 Howell St., Bldg 102T, Code 00T2, Newport, RI 02841, telephone 401-832-8728, or E-Mail Theresa.baus@navy.mil.

Authority: 35 U.S.C. 207, 37 CFR part 404.

Dated: March 11, 2015.
N.A. Hagerty-Ford,
Commander, Office of the Judge Advocate General, U.S. Navy, Federal Register Liaison Officer.

[FR Doc. 2015-06101 Filed 3-16-15; 8:45 am]

BILLING CODE 3810-FF-P